DEPARTMENT OF AGRICULTURE

Commodity Credit Corporation

Notice of Request for Approval of a New Information Collection—Rate Quotation for Transportation Services

AGENCY: Commodity Credit Corporation (CCC), USDA.

ACTION: Notice and request for comments.

SUMMARY: In accordance with the Paperwork Reduction Act of 1995 (PRA), the Commodity Credit Corporation is seeking approval from the Office of Management and Budget (OMB) to obtain freight rates to haul agricultural products for the Department of Agriculture.

This information collection will allow CCC to establish the lowest cost of movement, via Motor Carriers and Intermodal Marketing Companies (IMCs), to meet the transportation needs of CCC, for the transportation of commodities.

DATES: Comments on this notice must be received on or before December 22, 2003 to be assured consideration.

ADDRESSES: Comments concerning this notice should be addressed to Donna Ryles, Chief, Planning and Analysis Division, Kansas City Commodity Office, 6501 Beacon Drive, Kansas City, Missouri 64133-4676; telephone (816) 926-6509: e-mail: dgryles@kcc.fsa.usda.gov. Comments may be faxed to (816) 926-1648.

SUPPLEMENTARY INFORMATION:

Title: Rate Quotation for Transportation Services.

OMB Control Number: 0560-NEW.

Type of Request: New information collection.

Abstract: CCC, through the Kansas City Commodity Office (KCCO), solicits bids from approved Motor Carriers and Intermodal Marketing Companies for the purpose of providing transportation of agricultural commodities. Motor Carriers provide over the road trucking, and Intermodal Marketing Companies provide rail trailer-on-flatcar/container-on-flatcar (TOFC/COFC) service that CCC hires to meet program transportation needs. Motor Carriers and IMCs that offer rate quotations for transportation services to KCCO Export Operations Division (EOD) are required to complete and submit the KC-5, Rate Quotation for Transportation Services form. EOD is collecting information to establish the lowest cost of movement via Motor Carriers and IMCs to meet transportation needs of U.S. Department of Agriculture. EOD must ensure that Motor Carriers and IMCs providing the transportation service have both the willingness and the capacity to meet these needs.

Estimate of Burden: Public reporting burden for collecting information under this notice is estimated to average 15 minutes per response, including the time for reviewing instructions, searching existing data sources, gathering and maintaining the data needed, and completing and reviewing the collection of information.

Respondents: Motor Carriers and Intermodal Marketing Companies.

Respondents: 132.

Estimated Number of Annual Responses per Respondent: 41.

Estimated Total Annual Burden on Respondents: 1,353 hours.

Proposed topics for comment include: (a) Whether the collection of information is necessary for the proper performance of the functions of the agency, including whether the information will have practical utility; (b) the accuracy of the agency's estimate of burden including the validity of the methodology and assumptions used; (c) ways to enhance the quality, utility and clarity of the information collected; or (d) ways to minimize the burden of the collection of the information on those who are to respond, including through the use of appropriate automated, electronic, mechanical, or other technological collection techniques or other forms of information technology. Comments regarding this information collection requirement may be directed to the Desk Officer for Agriculture, Office of Information and Regulatory Affairs, Office of Management and Budget, Washington, DC 20503 and to Donna Ryles, Chief, Planning and Analysis Division, Kansas City Commodity Office, 6501 Beacon Drive, Kansas City, Missouri 64133-4676, telephone (816) 926-6509, fax (816) 926-1648. All comments will become a matter of public record.

Signed in Washington, DC, on October 8, 2003.
Verle E. Lanier,
Executive Vice President, Commodity Credit Corporation.

[FR Doc. 03-26448 Filed 10-20-03; 8:45 am]

BILLING CODE 3410-05-P